DEPARTMENT OF TRANSPORTATION

Pipeline and Hazardous Materials Safety Administration

[Docket No. PHMSA-2015-0101, Notice No. 15-6]

International Standards on the Transport of Dangerous Goods

AGENCY: Pipeline and Hazardous Materials Safety Administration (PHMSA), DOT.

ACTION: Notice of public meeting and request for information on proposed alternative classification criteria for Class 8 (corrosive) materials.

SUMMARY: This notice is to advise interested persons that on Wednesday, June 10, 2015, PHMSA will conduct a public meeting to discuss proposals in preparation for the 47th session of the United Nations Sub-Committee of Experts on the Transport of Dangerous Goods (UNSCOE TDG) to be held June 22 to June 26, 2015, in Geneva, Switzerland. During this meeting, PHMSA is also soliciting comments relative to potential new work items which may be considered for inclusion in its international agenda and feedback on issues that PHMSA may put forward for consideration by the Sub-Committee such as enhanced recognition of alternative test methods relevant to the classification of corrosive materials (see further discussion under the supplementary information section below). PHMSA will also provide an update on recent actions to enhance transparency and stakeholder interaction through improvements to the international standards portion of its Web site.

Also, on Wednesday, June 10, 2015, the Department of Labor, Occupational Safety and Health Administration (OSHA) will conduct a public meeting (see Docket No. OSHA-H022K-2006-0062) to discuss proposals in preparation for the 29th session of the United Nations Sub-Committee of Experts on the Globally Harmonized System of Classification and Labelling of Chemicals (UNSCEGHS) to be held June 29 to July 1, 2015, in Geneva, Switzerland.

Time and Location: Both meetings will be held at the DOT Headquarters, West Building, 1200 New Jersey Avenue SE., Washington, DC 20590-0001.

PHMSA public meeting: 9:00 a.m. to 12:00 noon EDT.

OSHA public meeting: 1:00 p.m. to 4:00 p.m. EDT.

Advanced Meeting Registration: The DOT requests that attendees pre-register for these meetings by completing the form at https://www.surveymonkey.com/r/3XTD2TB. Attendees may use the same form to pre-register for both the PHMSA and the OSHA meetings. Failure to pre-register may delay your access to the DOT Headquarters building. If participants are attending in person, arrive early to allow time for security checks necessary to obtain access to the building.

Conference call-in and “live meeting” capability will be provided for both meetings. Specific information on call-in and live meeting access will be posted when available at http://www.phmsa.dot.gov/hazmat/regs/international and at http://www.osha.gov/dsg/hazcom/.

FOR FURTHER INFORMATION CONTACT: Mr. Steven Webb or Mr. Aaron Wiener, Office of Hazardous Materials Safety, Department of Transportation, Washington, DC 20590; 202/366-8553.

Supplementary Information on the PHMSA Meeting: The primary purpose of PHMSA's meeting will be to prepare for the 47th session of the UNSCOE TDG. The 47th session of the UNSCOE TDG is the first of four meetings scheduled for the 2015-2016 biennium. The UNSCOE will consider proposals for the 20th Revised Edition of the United Nations Recommendations on the Transport of Dangerous Goods Model Regulations, which may be implemented into relevant domestic, regional, and international regulations from January 1, 2019. Copies of working documents, informal documents, and the meeting agenda may be obtained from the United Nations Transport Division's Web site at http://www.unece.org/trans/main/dgdb/dgsubc3/c3age.html.

General topics on the agenda for the UNSCOE TDG meeting include:

• Explosives and related matters

• Listing, classification and packing

• Electric storage systems

• Transport of gases

• Miscellaneous pending issues

• Global harmonization of transport of dangerous goods regulations with the Model Regulations

• Guiding principles for the Model Regulations

• Electronic data interchange for documentation purposes

• Cooperation with the International Atomic Energy Agency (IAEA)

• New proposals for amendments to the Model Regulations

• Issues relating to the Globally Harmonized System of Classification and Labeling of Chemicals (GHS)

PHMSA specifically solicits comments relative to efforts by the UN TDG and GHS Sub-Committees relevant to enhancing recognition of additional Class 8 (corrosive) classification assessment methods that are currently included within the GHS but not within the UN Model Regulations for Transport. At its previous session the Sub-Committee considered a U.S. proposal that addressed optional methods for classification of mixtures based on pH and the use of “bridging principles” consistent with the current GHS. During the meeting a number of Sub-Committee members expressed support for the proposal in principle, but suggested the proposal should also address use of the “additivity” classification method consistent with the GHS. Based on comments received, PHMSA is considering submission of a revised proposal including the additivity method as an additional option while maintaining the methods addressed under the previous U.S. paper on this topic (see http://www.unece.org/fileadmin/DAM/trans/doc/2014/dgac10c3/ST-SG-AC.10-C.3-2014-99_ST-SG-AC.10-C.4-2014-18e.pdf). PHMSA continues to support the inclusion of alternative classification methods which ensure an equivalent level of safety while reducing the need for in-vitro and/or in-vivo testing where practicable. Comments on the Class 8 classification work, potential new work items which may be considered for inclusion in PHMSA's international agenda, or any working documents or informal documents to be considered at the 47th session of the UNSCOE TDG may be provided in person at the public meeting or via email to PHMSAInternationalStandards@dot.gov.

Following the 47th session of the UNSCOE TDG, a copy of the Sub-Committee's report will be available at the United Nations Transport Division's Web site at http://www.unece.org/trans/main/dgdb/dgsubc3/c3rep.html. PHMSA's Web site at http://www.phmsa.dot.gov/hazmat/regs/international provides additional information regarding the UNSCOE TDG and related matters.

Supplementary Information on the OSHA Meeting: The Federal Register notice and additional detailed information relating to OSHA's public meeting will be available upon publication at http://www.regulations.gov (Docket No. OSHA-H022k-2006-0062) and on the OSHA Web site at http://www.osha.gov/dsg/hazcom/.

Signed at Washington, DC, on May 4, 2015.
Magdy El-Sibaie,
Associate Administrator for Hazardous Materials Safety.

[FR Doc. 2015-11104 Filed 5-7-15; 8:45 am]

BILLING CODE 4910-60-P